ENVIRONMENTAL PROTECTION AGENCY

[ER-FRL-6647-4]

Environmental Impact Statements; Notice of Availability

Responsible Agency: Office of Federal Activities, General Information (202) 564-7167 or http://www.epa.gov/compliance/nepa.

Weekly receipt of Environmental Impact Statements

Filed January 5, 2004 Through January 9, 2004

Pursuant to 40 CFR 1506.9.

EIS No. 040000, Final EIS, NPS, WA, Fort Vancouver National Historic Site, General Management Plan and Development Concept Plans, Implementation, Oregon County, WA, Wait Period Ends: February 17, 2004, Contact: Alan Schmierer (510) 817-1441.

EIS No. 040001, Draft EIS, BLM, CA, King Range National Conservation Area (KRNCA) Resource Management Plan, Implementation, Humboldt and Mendocino Counties, CA, Comment Period Ends: April 16, 2004, Contact: Lynda J. Roush (707) 825-2300. This document is available on the Internet at: http://www.ca.blm.gov/aracta/.

EIS No. 040002, Draft EIS, BLM, AK, Alpine Satellite Development Plan, Proposal to Construct and Operate Five Oil Production Pads, Associated Well, Roads, Airstrips, Pipelines and Powerlines, Northeast Corner of the National Petroleum Reserve-Alaska, Colville River Delta, North Slope Borough, AK, Comment Period Ends: March 1, 2004, Contact: James H. Ducker (907) 271-3130. This document is available on the Internet at: http://www.apline-satellites-eis.com.

EIS No. 040003, Final EIS, AFS, CA, Giant Sequoia National Monument Management Plan, Implementation, Establishment of Management Directions for Land and Resources, Sequoia National Forest, Fresno, Kern and Tulare Counties, CA, Wait Period Ends: February 27, 2004, Contact: Jim Whitefield (559) 784-1500.

EIS No. 040004, Final EIS, NOA, AK, OR, WA, CA, Programmatic EIS—Pacific Salmon Fisheries Management Plan, Off the Coasts of Southeast Alaska, Washington, Oregon and California, and the Columbia River Basin, Implementation, Magnuson-Stevens Act, AK, WA, OR and CA, Wait Period Ends: February 17, 2004, Contact: D. Robert Lohn (206) 526-6734.

EIS No. 040005, Draft EIS, AFS, ID, WY, ID, EastBridge Cattle Allotment Management Plan Revision (AMP), Authorization of Continued Grazing, Caribou-Targhee National Forest, Soda Springs Ranger District, Caribou and Bonneville County, ID and Lincoln County, WY, Comment Period Ends: March 1, 2004, Contact: Victor Bradfield (208) 547-4356.

EIS No. 040006, Draft EIS, NOA, AK, Essential Fish Habitat Identification and Conservation, Implementation, North Pacific Fishery Management Council, Magnuson-Stevens Fishery Conservation and Management Act, AK, Comment Period Ends: April 15, 2004, Contact: Jon Kurland (907) 586-7638.

EIS No. 040007, Final EIS, DOE, NY, West Valley Demonstration Project, Waste Management, Onsite Management and Offsite Transportation of Radioactive Waste, West Valley, Cattaraugus County, NY, Wait Period Ends: February 27, 2004, Contact: Daniel W. Sullivan (716) 942-4016. This document is available on the Internet at: http://www.tis.eh.doe.gov/nepa/docs.docs.htm.

EIS No. 040008, Draft EIS, AFS, MT, UT, WY, ID, Northern Rockies Lynx Amendment, To Conserve and Promote Recovery of the Canada Lynx, NFS and BLM to Amend Land Resource Management Plans for 18 National Forests (NF), MT, WY, UT and ID, Comment Period Ends: April 15, 2004, Contact: Jon Haber (406) 329-3399. This document is available on the Internet at: http://www.fs.fed.us/r1/planning/lynx.htm1.

EIS No. 040009, Final EIS, NPS, AR, Arkansas Post National Memorial General Management Plan, Implementation, Osotouy Unit, Arkansas and Mississippi Rivers, Arkansas County, AR, Wait Period Ends: February 17, 2004, Contact: Edward E. Wood, Jr. (870) 548-2207.

EIS No. 040010, Final Supplement EIS, FHW, RI, Jamestown Bridge Replacement, Funding, North Kingstown and Jamestown, Washington and Newport Counties, RI, Wait Period Ends: February 17, 2004, Contact: Ralph Rizzo (401) 528-4548.

EIS No. 040011, Final EIS, NOA, WA, CA, OR, 2004 Pacific Coast Groundfish Fishery Management Fishery, Proposed Acceptable Biological Catch and Optimum Yield Specifications and Management Measures, Magnuson-Stevens Act, Exclusive Economic Zone, WA, OR and CA, Wait Period Ends: February 17, 2004, Contact: Robert Lohn (206) 526-6150.

EIS No. 040012, Final EIS, FAA, NY, Adoption-Griffiss Air Force Base (AFB) Disposal and Reuse, Implementation of Federal Aviation Administration's Decisions Relative to Reuse, Oneida County, NY Contact: Marie Janet (516) 227-3811. US Department of Transportation's, Federal Aviation Administration (FAA) has Adopted the U.S. Department of the Air Force's (USAF) FEIS #950534, filed 11/09/1995 and FSEIS #990384, filed 10/15/1999. FAA was a Cooperating Agency on the USAF FEIS and FSEIS. Recirculation of the EISs is not necessary under Section 1506.3(c) of the CEQ Regulations.

Amended Notices

EIS No. 030266, Draft EIS, EPA, KY, VA, TN, WV, Programmatic—Mountaintop Mining and Valley Fills Program Guidance, Policies or Regulations to Minimize Adverse Environmental Effects to Waters of the U.S. and Fish and Wildlife Resources, Implementation, Appalachia, Appalachian Study Area, WV, KY, VA and TN, Comment Period Ends: January 21, 2004, Contact: John Forren (EPA) (215) 814-2705. Revision of FR Notice Published on 11/22/03: CEQ Comment Period Ending 1/6/2004 has been Extended to 1/21/2004.

EIS No. 030586, Draft EIS, UAF, 00, Air Force Mission at Johnston Atoll Airfield (Installation) Termination, Implementation, Johnston Atoll is an Unincorporated Territory of the United States, Comment Period Ends: February 17, 2004, Contact: Patricia J. Vokoun (703) 604-5263. Revision of FR Notice Published on 1/2/2004: Title Correction and Removal of the State of Hawaii from the Record. Johnston Atoll is an Unincorporated Territory of the United States.

Dated: January 13, 2004.
Ken Mittelholtz,
Environmental Protection Specialist, Office of Federal Activities.

[FR Doc. 04-1050 Filed 1-15-04; 8:45 am]

BILLING CODE 6560-50-P